DEPARTMENT OF COMMERCE

Bureau of the Census

Census Advisory Committee Meeting

AGENCY: Bureau of the Census, Department of Commerce.

ACTION: Notice of public meeting.

SUMMARY: The Bureau of the Census (Census Bureau) is giving notice of a meeting of the National Advisory Committee on Racial, Ethnic and Other Populations (NAC). The NAC meeting will address the facilitator guide for tribal consultations. The NAC will meet via teleconference on October 13, 2015. Last-minute changes to the schedule are possible, which could prevent us from giving advance public notice of schedule adjustments. Please visit the Census Advisory Committees Web site for the most current meeting agenda at: http://www.census.gov/cac/.

DATES: October 13, 2015. The meeting will begin at approximately 2 p.m. and end at approximately 4 p.m.

ADDRESSES: The meeting will be held via teleconference. To attend, participants should call the following phone number: 1-877-973-5204. When prompted, please use the following password: 1733620.

FOR FURTHER INFORMATION CONTACT: Kim Collier, Assistant Division Chief for Stakeholders, Customer Liaison and Marketing Services Office, kimberly.l.collier@census.gov, Department of Commerce, U.S. Census Bureau, Room 8H185, 4600 Silver Hill Road, Washington, DC 20233, telephone 301-763-6590. For TTY callers, please use the Federal Relay Service 1-800-877-8339.

SUPPLEMENTARY INFORMATION: The NAC comprises up to thirty-two members. The Committee provides an organized and continuing channel of communication between race, ethnic, and other populations and the Census Bureau. The Committee advises the Director of the Census Bureau on the full range of economic, housing, demographic, socioeconomic, linguistic, technological, methodological, geographic, behavioral and operational variables affecting the cost, accuracy and implementation of Census Bureau programs and surveys, including the decennial census.

The Committee is established in accordance with the Federal Advisory Committee Act (Title 5, United States Code, Appendix 2, Section 10(a)(b)).

All meetings are open to the public. A brief period will be set aside at the meeting for public comment on October 13. However, individuals with extensive questions or statements must submit them in writing to: census.national.advisory.committee@census.gov (subject line “October 13, 2015 NAC Teleconference Public Comment”), or by letter submission to the Committee Liaison Officer, October 13, 2015, NAC Teleconference, Department of Commerce, U.S. Census Bureau, Room 8H185, 4600 Silver Hill Road, Washington, DC 20233.

Dated: September 16, 2015.
John H. Thompson,
Director, Bureau of the Census.

[FR Doc. 2015-24070 Filed 9-21-15; 8:45 am]

BILLING CODE 3510-07-P